INTERNATIONAL TRADE COMMISSION

[Investigation Nos. 701-TA-667 and 731-TA-1559 (Final)]

Organic Soybean Meal From India

Determinations

On the basis of the record ¹ developed in the subject investigations, the United States International Trade Commission (“Commission”) determines, pursuant to the Tariff Act of 1930 (“the Act”), that an industry in the United States is materially injured by reason of imports of organic soybean meal from India, provided for in subheadings 1208.10.00 and 2304.00.00 of the Harmonized Tariff Schedule of the United States, that have been found by the U.S. Department of Commerce (“Commerce”) to be sold in the United States at less than fair value (“LTFV”), and to be subsidized by the government of India.²

¹ The record is defined in § 207.2(f) of the Commission's Rules of Practice and Procedure (19 CFR 207.2(f)).

² 87 FR 16453 and 87 FR 16458 (March 23, 2022).

Background

The Commission instituted these investigations effective March 31, 2021 following receipt of petitions filed with the Commission and Commerce by the Organic Soybean Processors of America, Washington, DC, American Natural Processors, LLC, Dakota Dunes, South Dakota, Organic Production Services, LLC, Weldon, North Carolina, Professional Proteins Ltd., Washington, Iowa, Sheppard Grain Enterprises, LLC, Phelps, New York, Simmons Grain Co., Salem, Ohio, Super Soy, LLC, Brodhead, Wisconsin, and Tri-State Crush, Syracuse, Indiana. The final phase of the investigations was scheduled by the Commission following notification of preliminary determinations by Commerce that imports of organic soybean meal from India were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 19, 2021 (86 FR 64956). The Commission conducted its hearing on March 16, 2022. All persons who requested the opportunity were permitted to participate.

The Commission made these determinations pursuant to §§ 705(b) and 735(b) of the Act (19 U.S.C. 1671d(b) and 19 U.S.C. 1673d(b)). It completed and filed its determinations in these investigations on May 5, 2022. The views of the Commission are contained in USITC Publication 5321 (May 2022), entitled Organic Soybean Meal from India: Investigation Nos. 701-TA-667 and 731-TA-1559 (Final).

By order of the Commission.
Issued: May 5, 2022.
William Bishop,
Supervisory Hearings and Information Officer.

[FR Doc. 2022-10052 Filed 5-10-22; 8:45 am]

BILLING CODE 7020-02-P